SMALL BUSINESS ADMINISTRATION

[License No. 01/01-0339]

Chestnut Venture Partners, L.P.; Notice Seeking Exemption Under Section 312 of the Small Business Investment Act, Conflicts of Interest

Notice is hereby given that Chestnut Venture Partners, L.P., 75 State Street, Suite 2500, Boston, Massachusetts 02109, a Federal Licensee under the Small Business Investment Act of 1958, as amended (“the Act”), in connection with the financing of a small concern, has sought an exemption under section 312 of the Act and § 107.730, Financings which Constitute Conflicts of Interest of the Small Business Administration (“SBA”) rules and regulations (13 CFR 107.730 (2001)). Chestnut Venture Partners, L.P., proposes to make an equity investment in Florida Digital Network, Inc. The financing is contemplated to implement a new business plan which involves a substantial change in size, scope and nature of Florida Digital Network, Inc.'s operations and service offerings.

This financing is brought within the purview of § 107.730(a)(1) of the Regulations because Media/Communications Partners III, L.P. and M/C Investors, LLC, Associates of Chestnut Venture Partners, L.P., presently own greater than 10 percent of Florida Digital Network, Inc., and therefore, Florida Digital Network, Inc., is considered an Associate of Chestnut Venture Partners, L.P., as defined in § 107.50 of the regulations.

Notice is hereby given that any interested person may submit written comments on the transaction to the Acting Associate Administrator for Investment, U.S. Small Business Administration, 409 Third Street, SW., Washington, DC 20416.

Dated: June 13, 2001.
Harry Haskins,
Acting Associate Administrator for Investment.

[FR Doc. 01-15642 Filed 6-20-01; 8:45 am]

BILLING CODE 8010-01-M